DEPARTMENT OF HEALTH AND HUMAN SERVICES

Centers for Disease Control and Prevention

Advisory Committee to the Director (ACD), Centers for Disease Control and Prevention—State, Tribal, Local and Territorial (STLT) Subcommittee

In accordance with section 10(a)(2) of the Federal Advisory Committee Act (Pub. L. 92-463), the Centers for Disease Control and Prevention (CDC) announces the following meeting of the aforementioned subcommittee:

Time and Date: 3:00 p.m.-4:10 p.m. EST, December 2, 2013.

Place: This meeting will be held by teleconference.

Status: This meeting is open to the public, limited only by the availability of telephone ports (100). The public is welcome to participate during the public comment period, which is tentatively scheduled from 4:00 p.m. to 4:05 p.m. To participate on the teleconference, please dial (888) 233-0592 and enter code 33288611.

Purpose: The Subcommittee will provide advice to the CDC Director through the ACD on strategies and future needs and challenges faced by State, Tribal, Local and Territorial health agencies, and will provide guidance on opportunities for CDC.

Matters To Be Discussed: The STLT Subcommittee members will discuss implementation of ACD-adopted recommendations related to the health department of the future and how CDC can best support STLT health departments.

The agenda is subject to change as priorities dictate.

Contact Person for More Information: Judy Monroe, M.D., Designated Federal Officer, STLT Territorial Subcommittee, ACD, CDC, 1600 Clifton Road, NE., M/S E-70, Atlanta, Georgia 30333. Telephone (404) 498-6775, Email: OSTLTSDirector@cdc.gov. Please submit comments to OSTLTSDirector@cdc.gov by November 25, 2013.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention (CDC).

[FR Doc. 2013-26632 Filed 11-6-13; 8:45 am]

BILLING CODE 4163-18-P